DEPARTMENT OF COMMERCE

National Oceanic and Atmospheric Administration

Proposed Information Collection; Comment Request; Alaska License Limitation Program for Groundfish, Crab, and Scallops

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 10, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instruments and instructions should be directed to Patsy A. Bearden, 907-586-7008 or patsy.bearden@noaa.gov.

SUPPLEMENTARY INFORMATION:

I. Abstract

The License Limitation Program (LLP) restricts access to the commercial groundfish fisheries in the Exclusive Economic Zone off Alaska except for certain areas where alternative programs exist. The LLP also restricts access to the commercial crab fisheries for the Bering Sea and Aleutian Islands (BSAI) and access to the commercial scallop fisheries off Alaska.

Applications for permits were a one-time process. An LLP application originally was used to determine owners of vessels who were qualified to obtain an LLP license, and no new LLP permits may be issued except under very specific conditions. Permits have no expiration date, but are transferable. This collection now supports LLP transfer activities for crab, scallops, and groundfish, and any appeals resulting from denied actions.

II. Method of Collection

Transfer requests may be submitted by FAX or as paper submissions. Appeals may be submitted by mail as paper submissions.

III. Data

OMB Number: 0648-0334.

Form Number: None.

Type of Review: Regular submission.

Affected Public: Business or other for-profit; Individuals or households.

Estimated Number of Respondents: 144 .

Estimated Time per Response: 1 hour to complete and submit a groundfish and crab LLP transfer application; 1 hour to complete and submit a scallop LLP transfer application; 4 hours to complete and submit a transfer appeal.

Estimated Total Annual Burden Hours: 544.

Estimated Total Annual Cost to Public: $1,012.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 3, 2007.
Gwellnar Banks,
Management Analyst, Office of the Chief Information Officer.

[FR Doc. E7-19863 Filed 10-9-07; 8:45 am]

BILLING CODE 3510-22-P